OFFICE OF THE UNITED STATES TRADE REPRESENTATIVE

Notice of Conforming Amendment To Reinstated Exclusion: China's Acts, Policies and Practices Related to Technology Transfer, Intellectual Property, and Innovation

AGENCY: Office of the United States Trade Representative (USTR).

ACTION: Notice.

SUMMARY: Effective January 1, 2024, the U.S. International Trade Commission (USITC) implemented certain changes to statistical reporting categories in the Harmonized Tariff Schedule of the United States (HTSUS). As a result of these changes, USTR is making a conforming amendment to one previously reinstated exclusion associated with the Section 301 investigation of China Acts, Policies and Practices Related to Technology Transfer, Intellectual Property, and Innovation.

DATES: The conforming amendment in the Annex to this notice is applicable as of January 1, 2024. Customs and Border Protection (CBP) will issue instructions on entry guidance and implementation.

FOR FURTHER INFORMATION CONTACT: For general questions about this notice, contact Senior Associate General Counsel Philip Butler or Assistant General Counsel Rachel Hasandras at (202) 395-5725. For specific questions on customs classification or implementation of the product exclusion identified in the Annex to this notice, contact traderemedy@cbp.dhs.gov.

SUPPLEMENTARY INFORMATION:

A. Background

Effective January 1, 2024, the USITC implemented certain changes to ten-digit statistical reporting categories of the HTSUS in accordance with its responsibility under section 484(f) of the Tariff Act of 1930, 19 U.S.C. 1484(f). One of the previously reinstated exclusions in the Section 301 investigation of China's Acts, Policies and Practices Related to Technology Transfer, Intellectual Property, and Innovation, as set out at 87 FR 17380 (March 28, 2022), is affected by the amended statistical reporting categories.

B. Conforming Amendment To Reinstated Exclusion Extension

To maintain the pre-existing product coverage of the China 301 actions, one conforming amendment to the corresponding note provision in the HTSUS is required. In particular, the Annex to this notice makes one conforming amendment to U.S. note 20(ttt)(iii)(27) to subchapter III of chapter 99 of the HTSUS, as set out in the Annex at 87 FR 17380 (March 28, 2022).

Annex

Effective with respect to goods entered for consumption, or withdrawn from the warehouse for consumption, on or after 12:01 a.m. eastern standard time on January 1, 2024, and before 11:59 p.m. eastern daylight time on May 31, 2024, U.S. note 20(ttt)(iii)(27) to subchapter III of Chapter 99 of the Harmonized Tariff Schedule of the United States is amended by deleting “2929.90.5090” and by inserting “2929.90.5090 prior to January 1, 2024; described in statistical reporting number 2929.90.5095 effective January 1, 2024” in lieu thereof.

Juan Millan,
Acting General Counsel, Office of the United States Trade Representative.

[FR Doc. 2024-01023 Filed 1-18-24; 8:45 am]

BILLING CODE 3390-F4-P